DEPARTMENT OF STATE

[Delegation of Authority No. 334]

Delegation by the Secretary of State to the Assistant Secretary of State for Oceans and International Environmental and Scientific Affairs To Notify Foreign Governments of Proposed Hazardous Waste Exports Under the Solid Waste Disposal Act

By virtue of the authority vested in me as Secretary of State, including Section 1 of the State Department Basic Authorities Act, as amended (22 U.S.C. 2651a), I hereby delegate to the Assistant Secretary of State for Oceans and International Environmental and Scientific Affairs, to the extent authorized by law, the authority to approve notifications to foreign governments of proposed exports from the United States of hazardous waste, as provided under Section 3017 of the Solid Waste Disposal Act, 42 U.S.C. 6938.

Any act, executive order, regulation, or procedure subject to, or affected by, this delegation shall be deemed to be such act, executive order, regulation, or procedure as amended from time to time.

Notwithstanding this delegation of authority, the Secretary, the Deputy Secretary, or the Deputy Secretary of State for Management and Resources, and the Under Secretary for Democracy and Global Affairs may at any time exercise any authority or function delegated by this delegation of authority.

This delegation of authority shall be published in the Federal Register.

September 28, 2010.
Hillary Rodham Clinton,
Secretary of State.

[FR Doc. 2010-26380 Filed 10-19-10; 8:45 am]

BILLING CODE 4710-10-P